DEPARTMENT OF ENERGY

Federal Energy Regulatory Commission

[Docket No. IC04-580-001, FERC Form-580]

Commission Information Collection Activities, Proposed Collection; Comment Request; Submitted for OMB Review

April 6, 2004.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received comments from one entity in response to an earlier Federal Register notice of January 30, 2004 (69 FR 4498-49), and has responded to their comments in its submission to OMB.

DATES: Comments on the collection of information are due by June 30, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-7856. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-580-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 580 “Interrogatory on Fuel and Energy Purchases Practices, Docket No. IN79-6.”

2. Sponsor: Federal Energy Regulatory Commission.

3. Control No.: 1902-0137.

The Commission is now requesting that OMB approve with a three-year extension of the expiration date, with no changes to the existing collection. The information filed with the Commission is mandatory.

4. Necessity of the Collection of Information: Submission of the information is necessary to enable the Commission to carry out its responsibilities in implementing the statutory provisions of sections 205-206 of the Federal Power Act as amended by section 208 of the Public Utility Regulatory Policies Act (PURPA). The Commission is required to review “not less frequently than every two (2) years * * * of practices * * * to ensure the efficient use of resources (including economical purchase and use of fuel and electric energy) * * *.” The information is used to: (1) Review as mandated by statute, fuel purchase and cost recovery practices to insure efficient use of resources, including economical purchase and use of fuel and electric energy, under fuel adjustment clauses on file with the Commission; (2) evaluate fuel costs in individual rate filings; (3) to supplement periodic utility audits; and (4) to monitor changes and trends in the electric wholesale market. Electric market participants and the public are using the information to track market changes and trends in the electric wholesale market. The data has helped to identify market conditions. The Commission implements the filing requirements in the Code of Regulations (CFR) under 18 CFR parts 35.14.

5. Respondent Description: The respondent universe currently comprises 114 companies (on average per year) subject to the Commission's jurisdiction.

6. Estimated Burden: 3,600 total hours, 114 respondents (57 average per year), .5 responses per respondent, and 63 hours per response (average) (1 hour for those respondents without fuel adjustment clauses and 110 hours for those respondents with fuel adjustment clauses).

7. Estimated Cost Burden to Respondents: 3,600 hours / 2080 hours per year × $107,185 per year = $185,512.

Statutory Authority: Sections 205-206 of the FPA (16 U.S.C. 824d and e) and section 208 of the Public Utility Regulatory Policies Act (PURPA), (16 U.S.C. 2601 et al.).

Linda Mitry,
Acting Secretary.

[FR Doc. E4-817 Filed 4-13-04; 8:45 am]

BILLING CODE 6717-01-P